DEPARTMENT OF TRANSPORTATION

Federal Aviation Administration

14 CFR Part 39

[Docket No. FAA-2017-0993; Product Identifier 2017-CE-026-AD; Amendment 39-19168; AD 2018-02-15 ]

RIN 2120-AA64

Airworthiness Directives; British Aerospace Regional Aircraft Airplanes

AGENCY: Federal Aviation Administration (FAA), Department of Transportation (DOT).

ACTION: Final rule.

SUMMARY: We are superseding Airworthiness Directive (AD) 2007-08-06 for British Aerospace Regional Aircraft Models HP.137 Jetstream Mk.1, Jetstream Series 200, Jetstream Series 3101, and Jetstream Model 3201 airplanes. This AD results from mandatory continuing airworthiness information (MCAI) issued by an aviation authority of another country to identify and address an unsafe condition on an aviation product. The MCAI describes the unsafe condition as the need for airworthiness limitations for critical components in the main and nose landing gear assemblies. We are issuing this AD to require actions to address the unsafe condition on these products.

DATES: This AD is effective March 5, 2018.

The Director of the Federal Register approved the incorporation by reference of a certain publication listed in the AD as of March 5, 2018.

ADDRESSES: You may examine the AD docket on the internet at http://www.regulations.gov by searching for and locating Docket No. FAA-2017-0993; or in person at the Docket Operations, U.S. Department of Transportation M-30, West Building Ground Floor, Room W12-140, 1200 New Jersey Avenue SE, Washington, DC 20590.

For service information identified in this AD, contact BAE Systems (Operations) Limited, Customer Information Department, Prestwick International Airport, Ayrshire, KA9 2RW, Scotland, United Kingdom; telephone: +44 1292 675207; fax: +44 1292 675704; email: RApublications@baesystems.com; internet: http://www.baesystems.com/Businesses/RegionalAircraft/. You may view this referenced service information at the FAA, Policy and Innovation Division, 901 Locust, Kansas City, Missouri 64106. For information on the availability of this material at the FAA, call (816) 329-4148. It is also available on the internet at http://www.regulations.gov by searching for Docket No. FAA-2017-0993.

FOR FURTHER INFORMATION CONTACT: Doug Rudolph, Aerospace Engineer, FAA, Small Airplane Standards Branch, 901 Locust, Room 301, Kansas City, Missouri 64106; telephone: (816) 329-4059; fax: (816) 329-4090; email: doug.rudolph@faa.gov.

SUPPLEMENTARY INFORMATION:

Discussion

We issued a notice of proposed rulemaking (NPRM) to amend 14 CFR part 39 by adding an AD that would apply to British Aerospace Regional Aircraft Models HP.137 Jetstream Mk.1, Jetstream Series 200, Jetstream Series 3101, and Jetstream Model 3201 airplanes. That NPRM was published in the Federal Register on October 24, 2017 (82 FR 49144), and proposed to supersede AD 2007-08-06, Amendment 39-15023 (72 FR 18565; April 13, 2007) (“AD 2007-08-06”).

Since we issued AD 2007-08-06, new part numbers have been introduced into service that allow for a change in the life limits requirements in the airworthiness limitations.

The NPRM proposed to address an unsafe condition for the specified products and was based on mandatory continuing airworthiness information (MCAI) originated by an aviation authority of another country. The MCAI states that:

The airworthiness limitations for critical Main Landing Gear and Nose Landing Gear components installed on Jetstream 3100 and 3200 aeroplanes, which are approved by EASA, are currently defined and published in BAE Systems (Operations) Ltd Service Bulletin (SB) 32-JA981042. These instructions have been identified as mandatory actions for continued airworthiness. Failure to accomplish these instructions could result in an unsafe condition.

Previously, EASA issued AD 2006-0087 to require implementation of the airworthiness limitations for critical landing gear components as specified in BAE Systems (Operations) Ltd SB 32-JA981042 at Revision 5.

Since that [EASA] AD was issued, two new Part Numbers (P/N) were introduced into service (alternative port and starboard axles P/N AIR141958 and P/N AIR141959 specific to Jetstream 3200). Consequently, BAE Systems (Operations) Ltd published SB 32-JA981042 Revision 7 (later revised) to introduce the associated life limits, and to introduce a life limit for the steering jack piston, which was found missing in the SB at Revision 5.

For the reason described above, this [EASA] AD retains the requirements of AD 2006-0087, which is superseded, and requires implementation of the airworthiness limitations as specified in BAE Systems (Operations) Ltd SB 32-JA981042 at Revision 9 (hereafter referred to as `the SB' in this AD).

The MCAI can be found in the AD docket on the internet at: https://www.regulations.gov/document?D=FAA-2017-0993-0002.

Comments

We gave the public the opportunity to participate in developing this AD. We received no comments on the NPRM or on the determination of the cost to the public.

Conclusion

We reviewed the relevant data and determined that air safety and the public interest require adopting the AD as proposed except for minor editorial changes. We have determined that these minor changes:

• Are consistent with the intent that was proposed in the NPRM for correcting the unsafe condition; and

• Do not add any additional burden upon the public than was already proposed in the NPRM.

Related Service Information Under 1 CFR Part 51

We reviewed British Aerospace Jetstream Series 3100 & 3200 Service Bulletin 32-JA981042, Revision No. 9, dated July 11, 2017. The service information describes airworthiness limitations for landing gear components and procedures for replacement of those components as necessary. This service information is reasonably available because the interested parties have access to it through their normal course of business or by the means identified in the ADDRESSES section of the AD.

Costs of Compliance

We estimate that this AD will affect 26 products of U.S. registry. We also estimate that it would take about 2 work-hours per product to comply with the basic requirements of this AD. The average labor rate is $85 per work-hour.

Based on these figures, we estimate the cost of this AD on U.S. operators to be $4,420, or $170 per product.

In addition, we estimate that any necessary follow-on actions would take about 6 work-hours and require parts costing $5,000, for a cost of $5,510 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the internet at http://www.regulations.gov by searching for and locating Docket No. FAA-2017-0993; or in person at Docket Operations between 9 a.m. and 5 p.m., Monday through Friday, except Federal holidays. The AD docket contains the NPRM, the regulatory evaluation, any comments received, and other information. The street address for Docket Operations (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15023 (72 FR 18565; April 13, 2007) and adding the following new AD:

2018-02-15 British Aerospace Regional Aircraft: Amendment 39-19168; Docket No. FAA-2017-0993; Product Identifier 2017-CE-026-AD.

(a) Effective Date

This airworthiness directive (AD) becomes effective March 5, 2018.

(b) Affected ADs

This AD supersedes AD 2007-08-06, Amendment 39-15023 (72 FR 18565; April 13, 2007) (“AD 2007-08-06”).

(c) Applicability

This AD applies to British Aerospace Regional Aircraft Models HP.137 Jetstream Mk.1, Jetstream Series 200 and 3101, and Jetstream Model 3201 airplanes, all serial numbers, certificated in any category.

(d) Subject

Air Transport Association of America (ATA) Code 32: Landing Gear.

(e) Reason

This AD was prompted by mandatory continuing airworthiness information (MCAI) originated by an aviation authority of another country to identify and address an unsafe condition on an aviation product. The MCAI describes the unsafe condition as the need for airworthiness limitations for critical components in the main and nose landing gear assemblies. We are issuing this AD to introduce new replacement part numbers and incorporate new limitations for the replacement part numbers to prevent failure of the main and nose landing gear, which could result in loss of control.

(f) Actions and Compliance

Unless already done, do the following actions listed in paragraphs (f)(1) through (4) of this AD:

(1) For all affected airplanes: Before further flight after March 5, 2018 (the effective date of this AD), replace each component part in the main and nose landing gear assemblies as applicable to airplane model and configuration before exceeding the applicable life limit, following the Accomplishment Instructions in BAE Systems British Aerospace Jetstream Series 3100 and 3200 Service Bulletin 32-JA981042 Rev 9, dated July 11, 2017.

(2) For the affected Model Jetstream 3201 airplanes: Within the next 50 hours after March 5, 2018 (the effective date of this AD), replace alternative port and starboard axles part numbers (P/N) AIR141958 and P/N AIR141959 that have exceeded the applicable life limits as shown in table 5 of BAE Systems British Aerospace Jetstream Series 3100 and 3200 Service Bulletin 32-JA981042 Rev 9, dated July 11, 2017.

(3) For all affected airplanes: Before further flight after March 5, 2018 (the effective date of this AD), revise the FAA-approved maintenance program (instructions for continued airworthiness) that the operator or the owner uses to ensure the continuing airworthiness of each operated airplane, as applicable to the airplane model, by incorporating the limitations described in BAE Systems British Aerospace Jetstream Series 3100 and 3200 Service Bulletin 32-JA981042 Rev 9, dated July 11, 2017, as applicable to the airplane model and depending on the airplane configuration.

(4) For all affected airplanes: The compliance times in paragraphs (f)(1) and (2) of this AD are presented in flight cycles (landings). If the total flight cycles have not been kept, multiply the total number of airplane hours time-in-service (TIS) by 0.75 to calculate the cycles. For the purposes of this AD:

(i) 100 hours TIS × .75 = 75 cycles; and

(ii) 1,000 hours TIS × .75 = 750 cycles.

(g) Other FAA AD Provisions

The following provisions also apply to this AD:

(1) Alternative Methods of Compliance (AMOCs): The Manager, Small Airplane Standards Branch, FAA, has the authority to approve AMOCs for this AD, if requested using the procedures found in 14 CFR 39.19. Send information to ATTN: Doug Rudolph, Aerospace Engineer, FAA, Small Airplane Standards Branch, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Contacting the Manufacturer: For any requirement in this AD to obtain corrective actions from a manufacturer, the action must be accomplished using a method approved by the Manager, Small Airplane Standards Branch, FAA; or the European Aviation Safety Agency (EASA).

(h) Related Information

(1) Refer to MCAI EASA AD 2017-0157, dated August 25, 2017, and, for related information. The MCAI can be found in the AD docket on the internet at: https://www.regulations.gov/document?D=FAA-2017-0993-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) BAE Systems British Aerospace Jetstream Series 3100 and 3200 Service Bulletin 32-JA981042 Rev 9, dated July 11, 2017.

(ii) Reserved.

(3) For BAE Systems (Operations) Limited service information identified in this AD, contact BAE Systems (Operations) Limited, Customer Information Department, Prestwick International Airport, Ayrshire, KA9 2RW, Scotland, United Kingdom; telephone: +44 1292 675207; fax: +44 1292 675704; email: RApublications@baesystems.com; internet: http://www.baesystems.com/Businesses/RegionalAircraft/.

(4) You may view this service information at FAA, Policy and Innovation Division, 901 Locust, Kansas City, Missouri 64106. For information on the availability of this material at the FAA, call 816-329-4148. In addition, you can access this service information on the internet at http://www.regulations.gov by searching for and locating Docket No. FAA-2017-0993.

(5) You may view this service information that is incorporated by reference at the National Archives and Records Administration (NARA). For information on the availability of this material at NARA, call 202-741-6030, or go to: http://www.archives.gov/federal-register/cfr/ibr-locations.html.

Issued in Kansas City, Missouri, on January 16, 2018.
Melvin J. Johnson,
Deputy Director, Policy & Innovation Division, Aircraft Certification Service.

[FR Doc. 2018-01310 Filed 1-26-18; 8:45 am]

BILLING CODE 4910-13-P